DEPARTMENT OF AGRICULTURE

Federal Crop Insurance Corporation

7 CFR Part 457

RIN 0563-AC02

Common Crop Insurance Regulations, Fresh Market Sweet Corn Crop Insurance Provisions; Correction

AGENCY: Federal Crop Insurance Corporation, USDA.

ACTION: Final rule; correction.

SUMMARY: This document contains a correction to the final regulation which was published Wednesday, September 26, 2007 (72 FR 54519-54525). The regulation pertains to the insurance of fresh market sweet corn.

EFFECTIVE DATE: November 7, 2007.

FOR FURTHER INFORMATION CONTACT: Linda Williams, Risk Management Specialist, Product Management, Product Administration and Standards Division, Risk Management Agency, United States Department of Agriculture, Beacon Facility—Mail Stop 0812, PO Box 419205, Kansas City, MO 64141-6205, telephone (816) 926-7730.

SUPPLEMENTARY INFORMATION:

Background

The final regulation that is the subject of this correction was intended to amend certain Fresh Market Sweet Corn Crop Provisions to be used in conjunction with the Common Crop Insurance Policy Basic Provisions for ease of use and consistency of terms.

Need for Correction

As published, the final regulation contained an error that may prove to be misleading and needs to be clarified. Section 16(b)(1) of the Fresh Market Sweet Corn Crop Provisions contained a parenthetical phrase that was inadvertently misplaced within the sentence so that it did not provide the correct computation to be used when computing the value of sweet corn production that is sold. This correction moves the parenthetical to the location it should have been to provide the correct computation.

List of Subjects in 7 CFR Part 457

Crop insurance, Fresh market sweet corn, Reporting and recordkeeping requirements.

Correction of Publication

Accordingly, the 7 CFR Part 457 is corrected as follows:

PART 457—COMMON CROP INSURANCE REGULATIONS

1. The authority citation for 7 CFR part 457 continues to read as follows:

Authority: 7 U.S.C. 1506(l) and 1506(p).

2. Amend § 457.129 as follows:

a. Revise section 16(b)(1) to read as set forth below;

The revision reads as follows:

§ 457.129 Fresh market sweet corn crop insurance provisions.

* * * * *

16. Minimum Value Option.

* * * * *

(b) * * *

(1) The dollar amount obtained by multiplying the average net value per container from all sweet corn sold (this result may not be less than the minimum value option amount if such amount is provided in the Special Provisions) by the total number of all containers of sweet corn sold;

* * * * *

Signed in Washington, DC, on November 1, 2007.
Eldon Gould,
Manager, Federal Crop Insurance Corporation.

[FR Doc. E7-21852 Filed 11-6-07; 8:45 am]

BILLING CODE 3410-08-P